DEPARTMENT OF DEFENSE

Department of the Army, Corps of Engineers

Intent to Prepare a Draft Environmental Impact Statement for the Proposed Cordova Hills Project in Sacramento County, CA, Corps Permit Application Number SPK-2004-00116

AGENCY: Department of the Army, U.S. Army Corps of Engineers, DOD.

ACTION: Notice of Intent.

SUMMARY: In 2008, the Cordova Hills Ownership Group (applicant) submitted a Department of the Army permit application for the proposed Cordova Hills project. On June 18, 2008, the U.S. Army Corps of Engineers, Sacramento District (Corps) determined that the proposed project may result in significant impacts to the environment, and that the preparation of an Environmental Impact Statement (EIS) is necessary. A revised permit application was submitted by the applicant on March 15, 2011.

The applicant proposes to implement a large-scale, mixed-use, mixed-density master planned community with an integrated university, neighborhood and regional commercial and residential uses and associated infrastructure. The proposed project consists of approximately: 1,000 acres of residential uses ranging from one dwelling unit per acre to 40 dwelling units per acres; 1,380,000 square feet of retail and commercial uses; 240 acres of private university campus; 635 acres of recreation areas, parks, natural avoided areas and open space corridors; 538 acres for on-site wetland and habitat avoidance, and; 18 miles of off-street/multi-use trails.

The project site is approximately 2,688 acres and contains 89.106 acres of waters of the United States. The proposed project would involve the discharge of fill material into approximately 39.630 acres of waters of the United States, including vernal pools, seasonal wetlands, seeps, intermittent drainages, and stock ponds. The proposed project may also have have indirect impacts on other waters of the U.S.

DATES: The Corps will conduct a public scoping meeting that will be held on Tuesday, September 13, 2011 from 5 p.m. to 7 p.m.

ADDRESSES: The scoping meeting will be held at Rancho Cordova City Hall, located at 2729 Prospect Park Drive, Rancho Cordova, CA 95670.

FOR FURTHER INFORMATION CONTACT: Ms. Lisa Gibson, (916) 557-5288, e-mail: lisa.m.gibson2@usace.army.mil.

SUPPLEMENTARY INFORMATION: Interested parties are invited to submit written comments on the permit application on or before October 26, 2011. Scoping comments should be submitted within the next 60 days, but may be submitted at any time prior to publication of the Draft EIS. To submit comments on this notice or for questions about the proposed action and the Draft EIS, please contact Lisa Gibson, 650 Capitol Mall, Suite 5-200, Sacramento, CA 95814-4708. Parties interested in being added to the Corps' electronic mail notification list for the proposed project can e-mail a request to spk-regulatory-info@usace.army.mil and indicate which list you would like your e-mail address to be added. Please refer to Identification Number SPK-2004-00116 in any correspondence.

The proposed Cordova Hills Project site is located in unincorporated eastern Sacramento County. The site is bordered on the west by Grant Line Road, and on the north by Glory Lane. The proposed project site is north of Kiefer Road and west of the Carson Creek drainage, in portions of Sections 13, 14, 23 and 24, Township 8 North, Range 7 East, and Section 18, Township 8 North, Range 8 East, Mount Diablo Meridian.

A wetland delineation of the project site, which has been approved by the Corps, indicates that a total of approximately 89 acres of waters of the United States are present within the proposed project area, including: 47.5 acres of vernal pools; 22.9 acres of seasonal wetlands; 0.01 acres of seeps; 16.9 acres of intermittent drainage; 0.17 acres of Carson Creek, and; 1.5 acres of man-made stock ponds.

The EIS will include alternatives to the Proposed Action that will meet NEPA requirements for a reasonable range of alternatives, and will also meet the requirements of CWA Section 404(b)(1) Guidelines. The alternatives to be evaluated within the EIS have not yet been developed, but will, at a minimum, include the No Action Alternative, the Proposed Project Alternative, additional on-site alternatives, and off-site alternatives.

Sacramento County, as the lead agency responsible for compliance with the California Environmental Quality Act, is currently preparing a Draft Environmental Impact Report (DEIR). The DEIR is expected to be released in the fall of 2011.

The Corps' public involvement program includes several opportunities to provide verbal and written comments on the proposed Cordova Hills Project through the EIS process. Affected federal, state, and local agencies, Native American tribes, and other interested private organizations and parties are invited to participate. Potentially significant issues to be analyzed in depth in the EIS include loss of waters of the United States (including wetlands), and impacts related to cultural resources, biological resources, air quality, hydrology and water quality, noise, traffic, aesthetics, utilities and service systems, and socioeconomic effects.

The Corps will initiate formal consultation with the U.S. Fish and Wildlife Service (USFWS) under Section 7 of the Endangered Species Act for impacts to listed species that may result from the proposed project. The Corps will also consult with the State Historic Preservation Office under Section 106 of the National Historic Preservation Act for properties listed or potentially eligible for listing on the National Register of Historic Places, as appropriate.

The Draft EIS is expected to be made available to the public in the summer of 2012.

Dated: August 15, 2011.
William J. Leady,
Colonel, U.S. Army District Engineer.

[FR Doc. 2011-22392 Filed 8-31-11; 8:45 am]

BILLING CODE 3720-58-P